COMMITTEE FOR THE IMPLEMENTATION OF TEXTILE AGREEMENTS

Designation under the Textile and Apparel Commercial Availability Provisions of the United States Caribbean Basin Trade Partnership Act (CBTPA)

July 5, 2005.

AGENCY: The Committee for the Implementation of Textile Agreements (CITA)

ACTION: Designation.

EFFECTIVE DATE: July 11, 2005.

SUMMARY: The Committee for the Implementation of Textile Agreements (CITA) has determined that certain 100 percent cotton, 4-thread twill weave, flannel fabrics, of yarn-dyed, combed, and ring spun single yarns, of the specifications detailed below, classified in subheading 5208.43.0000 of the Harmonized Tariff Schedule of the United States (HTSUS), for use in men's and boys' woven cotton shirts, cannot be supplied by the domestic industry in commercial quantities in a timely manner. The CITA hereby designates men's and boys' woven cotton shirts, that are both cut and sewn or otherwise assembled in one or more eligible CBTPA beneficiary countries from such fabrics, as eligible for quota-free and duty-free treatment under the textile and apparel commercial availability provisions of the CBTPA and eligible under HTSUS subheadings 9820.11.27, to enter free of quota and duties, provided that all other fabrics in the referenced apparel articles are wholly formed in the United States from yarns wholly formed in the United States.

FOR FURTHER INFORMATION CONTACT: Janet Heinzen, Office of Textiles and Apparel, U.S. Department of Commerce, (202) 482 3400.

SUPPLEMENTARY INFORMATION:

Authority: Section 213(b)(2)(A)(v)(II) of the Caribbean Basin Economic Recovery Act (CBERA), as added by Section 211(a) of the CBTPA; Presidential Proclamation 7351 of October 2, 2000; Section 6 of Executive Order No. 13191 of January 17, 2001.

BACKGROUND:

The commercial availability provision of the CBTPA provides for duty-free and quota-free treatment for apparel articles that are both cut (or knit to shape) and sewn or otherwise assembled in one or more beneficiary CBTPA country from fabric or yarn that is not formed in the United States if it has been determined that such yarns or fabrics cannot be supplied by the domestic industry in commercial quantities in a timely manner and certain procedural requirements have been met. In Presidential Proclamation 7351, the President proclaimed that this treatment would apply to apparel articles from fabrics or yarn designated by the appropriate U.S. government authority in the Federal Register. In Executive Order 13191, the President authorized CITA to determine whether yarns or fabrics cannot be supplied by the domestic industry in commercial quantities in a timely manner.

On March 3, 2005, the Chairman of CITA received a petition from Sandler, Travis, and Rosenberg, P.A., on behalf of B*W*A, alleging that certain 100 percent cotton, 4-thread twill weave, flannel fabrics, of yarn-dyed, combed, and ring spun single yarns, of the specifications detailed below, classified in HTSUS subheading 5208.43.0000, for use in men's and boys' woven cotton shirts, cannot be supplied by the domestic industry in commercial quantities in a timely manner. It requested quota- and duty-free treatment under the CBTPA for men's and boys' woven cotton shirts that are both cut and sewn or otherwise assembled in one or more CBTPA beneficiary countries from such fabrics. On March 9, 2005, CITA requested public comment on the petition. See Request for Public Comment on Commercial Availability Petition under the United States - Caribbean Basin Trade Partnership Act (CBTPA), 70 FR 11622, (March 9, 2005). On March 25, 2005, CITA and the U.S. Trade Representative (USTR) sought the advice of the Industry Trade Advisory Committee for Textiles and Clothing and the Industry Trade Advisory Committee for Distribution Services. On March 25, 2005, CITA and USTR offered to hold consultations with the Committee on Ways and Means of the House of Representatives and the Committee on Finance of the Senate (collectively, the Congressional Committees). On April 14, 2005, the U.S. International Trade Commission provided advice on the petition.

Based on the information and advice received and its understanding of the industry, CITA determined that the fabrics set forth in the petition cannot be supplied by the domestic industry in commercial quantities in a timely manner. On May 2, 2005, CITA and USTR submitted a report to the Congressional Committees that set forth the action proposed, the reasons for such action, and the advice obtained. A period of 60 calendar days since this report was submitted has expired.

CITA hereby designates as eligible for preferential treatment under HTSUS subheading 9820.11.27, men's and boys' woven cotton shirts, that are both cut and sewn or otherwise assembled in one or more eligible CBTPA beneficiary countries, from certain 100 percent cotton, 4-thread twill weave, flannel fabrics, of yarn-dyed, combed, and ring spun single yarns, of the specifications detailed below, classified in HTSUS subheading 5208.43.0000, not formed in the United States. The referenced apparel articles are eligible provided that all other fabrics are wholly formed in the United States from yarns wholly formed in the United States, subject to the special rules for findings and trimmings, certain interlinings and de minimis fibers and yarns under section 211(b)(2)(A)(vii) of the CBTPA, and that such articles are imported directly into the customs territory of the United States from an eligible CBTPA beneficiary country.

Specifications:

Fiber Content: | 100% Cotton
Weight: | 136 - 140 g/m2
Width: | 148 - 150 centimeters
Thread Count: | 38 - 40 warp ends per centimeter; 28 - 30 filling picks per centimeter; total: 66 - 70 threads per square centimeter
Yarn Number: | 48 - 52 metric warp and filling, ring spun, combed; average yarn number 48 - 50 metric
Weave: | 4-thread twill
Finish: | Of two or more and up to eight yarns of different colors; napped on both sides

An “eligible CBTPA beneficiary country” means a country which the President has designated as a CBTPA beneficiary country under section 213(b)(5)(B) of the CBERA (19 U.S.C. 2703(b)(5)(B)) and which has been the subject of a finding, published in the Federal Register, that the country has satisfied the requirements of section 213(b)(4)(A)(ii) of the CBERA (19 U.S.C. 2703(b)(4)(A)(ii)) and resulting in the enumeration of such country in U.S. note 1 to subchapter XX of Chapter 98 of the HTSUS.

James C. Leonard III,
Chairman, Committee for the Implementation of Textile Agreements.

[FR Doc. E5-3660 Filed 7-8-05; 8:45 am]

BILLING CODE 3510-DS-S